DEPARTMENT OF AGRICULTURE

Natural Resources Conservation Service

Little Wood River Irrigation District, Gravity Pressurized Irrigation Delivery System, Blaine County, ID

AGENCY: Natural Resources Conservation Service, USDA.

ACTION: Draft environmental impact statement availability for review and comment.

SUMMARY: Pursuant to section 102(2)(C) of the National Environmental Policy Act of 1969; the Council on Environmental Quality Guidelines (40 CFR part 1500); and the Natural Resources Conservation Service Guidelines (7 CFR part 650); the Natural Resources Conservation Service, U.S. Department of Agriculture, gives notice that a draft environmental impact statement has been prepared for a Federally assisted proposed project by the Little Wood River Irrigation District, Blaine County, Idaho.

DATES: Comments will be received for a 45 day period commencing with this date of publication.

FOR FURTHER INFORMATION CONTACT: Richard Sims, State Conservationist, Natural Resources Conservation Service, 9173 W. Barnes Dr., Suite C, Boise, Idaho, 83709-1574, telephone: 208-378-5700.

SUPPLEMENTARY INFORMATION: The preliminary information of this Federally assisted proposed action indicates that the project may cause significant local, regional, or national impacts on the environment. As a result of these findings, Richard Sims, State Conservationist, has determined that the preparation and review of an environmental impact statement is needed for this project.

The objective of the Little Wood River Irrigation District proposed action is to maximize the conservation and use of irrigation water and the energy required to irrigate all of the existing cropland within the project area. The proposed project would convert the open canal irrigation delivery system to a closed, gravity pressurized delivery system. Alternatives evaluated were No Action, Gravity Pressurized Irrigation Delivery System with On-Farm Irrigation Systems and Gravity Pressurized Irrigation Delivery System with On-Farm Irrigation Systems and Hydroelectric Generation.

The Little Wood River Irrigation District invites participation and consultation of agencies and individuals that have special expertise, legal jurisdiction, or interest in the preparation of the draft environmental impact statement. A limited number of copies of the EIS are available to fill single copy requests at the above address. Basic data developed during the environmental assessment are on file and may be reviewed by contacting Richard Sims.

Further information on the proposed action or future public meetings may be obtained from Richard Sims, State Conservationist, at the above address or telephone 208-378-5700.

Dated: October 15, 2003.
Richard Sims,
State Conservationist.

[FR Doc. 03-26907 Filed 10-23-03; 8:45 am]

BILLING CODE 3410-16-P